DEPARTMENT OF HOMELAND SECURITY

Bureau of Customs and Border Protection

Agency Information Collection Activities: Proposed Collection; Comment Request

ACTION: 30-Day notice of information collection under review: visa waiver program passenger arrival and department data (file No. OMB-32).

The Department of Homeland Security, Bureau of Customs and Border Protection (CBP), has submitted the following information collection request to the Office of Management and Budget (OMB) for review and temporary clearance in accordance with the Paperwork Reduction Act of 1995. The legacy Immigration and Naturalization Service (INS) published an interim rule containing the proposed information collection in the Federal Register on October 11, 2002 at 67 FR 63246. The interim rule also solicited public review and comments on the information collection for a period of 30 days. No comments were received. The INS received temporary OMB approval of this information collection.

The purpose of this notice is to allow an additional 30 days for public comments to extend the use of this information collection for a temporary approval. Comments are encouraged and will be accepted until November 17, 2003. This process is conducted in accordance with 5 CFR 1320.10.

Written comments and/or suggestions regarding the items contained in this notice, especially regarding the estimated public burden and associated response time, should be directed to the Office of Management Budget, Office of Information and Regulatory Affairs, Attention: Department of Justice Desk Officer, 725 17th Street, NW., Room 10235, Washington, DC 20530.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses

Overview of This Information Collection

(1) Type of Information Collection: Extension of a currently approved information collection.

(2) Title of the Form/Collection: Visa Waiver Program Passenger Arrival and Departure Date.

(3) Agency form number, if any, and the applicable component of the Department of Justice sponsoring the collection: No Agency Form Number (file No. OMB-32); Bureau of Customs and Border Protection, Department of Homeland Security.

(4) Affected public who will be asked or required to respond, as well as a brief abstract: Primary: Business or other for-profit. Section 217(h) of the INA requires an automated entry and exit control system by specifying those passenger data elements that must be electronically transmitted to the CBP by carriers seeking to transport Visa Waiver Program passengers into and out of the U.S.

(5) An estimate of the total number of respondents and the amount of time estimated for an average respondent to respond: 600 responses at 5 minutes (.083 hours) per response. Frequency of response is 365.

(6) An estimate of the total public burden (in hours) associated with the collection: 36,500 annual burden hours.

If you have additional comments, suggestions, or need a copy of the proposed information collection instrument with instructions, or additional information, please contact Richard A. Sloan 202-514-3291, Director, Regulations, and Forms Services Division, Department of Homeland Security, Room 4034, 425 I Street, NW., Washington, DC 20536. Additionally, comments and/or suggestions regarding the item(s) contained in this notice, especially regarding the estimated public burden and associated response time may also be directed to Mr. Richard A. Sloan.

If additional information is required contact: Ms. Theresa O'Malley, Chief Information Officer, Department of Homeland Security, Regional Office Building 3, 7th and D Streets, SW., Suite 4636-26, Washington, DC 20202.

Dated: October 9, 2003.
Richard A. Sloan,
Department Clearance Officer, Department of Homeland Security, Bureau of Customs and Border Protection.

[FR Doc. 03-26223 Filed 10-16-03; 8:45 am]

BILLING CODE 4410-10-M